OFFICE OF MANAGEMENT AND BUDGET

Public Comment on Guidelines and Discount Rates for Benefit-Cost Analysis of Federal Programs

AGENCY: Office of Management and Budget.

ACTION: Revisions to OMB Circular No. A-94.

SUMMARY: OMB is proposing revisions to Circular A-94, which provides guidance on benefit-cost analysis and cost-effectiveness analysis of Federal spending. Circular A-94 was last revised in 1992. These proposed revisions reflect scientific and economic advances since that time. Included in the proposed revisions are changes in the discount rate for benefit-cost analysis. This guidance is separate from Circular A-4, which covers benefit-cost analysis of regulations, rather than spending. Members of the public are encouraged to provide comment.

DATES: June 6, 2023.

ADDRESSES: The revised Circular can be accessed at https://www.whitehouse.gov/wp-content/uploads/2023/04/CircularA94.pdf.

Submit comments by the following method:

• Federal eRulemaking Portal: https://www.regulations.gov. Follow the instructions for submitting comments. Comments submitted electronically, including attachments to https://www.regulations.gov, will be posted to the docket unchanged.

Instructions: Please submit comments only and cite Information Collection 0348-0065 in all correspondence related to this collection. To confirm receipt of your comment(s), please check regulations.gov, approximately two to three business days after submission to verify posting (except allow 30 days for posting of comments submitted by mail).

FOR FURTHER INFORMATION CONTACT: Jamie Taber, Office of Economic Policy, Office of Management and Budget, (202) 395-2515, a94@omb.eop.gov.

Zachary Liscow,
Associate Director for Economic Policy, Office of Management and Budget.

[FR Doc. 2023-07179 Filed 4-6-23; 4:15 pm]

BILLING CODE 3110-01-P